DEPARTMENT OF ENERGY

Federal Energy Regulatory Commission

Notice of Effectiveness of Exempt Wholesale Generator Status

| Docket Nos.
Oriana Solar, LLC | EG25-71-000
PGR 2023 Lessee 1, LLC | EG25-72-000
Catalina Sola, LLC | EG25-73-000
East Atmore Solar, LLC | EG25-74-000
BOCA bn, LLC | EG25-75-000
Gonzaga Ridge Wind Farm, LLC | EG25-76-000
Gonzaga Ridge Battery Facility, LLC | EG25-77-000
Powell Creek Solar, LLC | EG25-78-000
Old 300 Storage Center, LLC | EG25-79-000
Evelyn Energy Storage Center, LLC | EG25-80-000
Northumberland Solar, LLC | EG25-81-000
VESI 38 LLC | EG25-82-000
B&K Solar, LLC | EG25-83-000
Barn Perch Solar, LLC | EG25-84-000
Juniper Solar, LLC | EG25-85-000
Melsam Solar, LLC | EG25-86-000
Rollins Solar, LLC | EG25-87-000
Ross Solar, LLC | EG25-88-000
Shorthorn Solar, LLC | EG25-89-000
Ten Governors Solar, LLC | EG25-90-000
Wallace Solar I, LLC | EG25-91-000
Culpepper Solar, LLC | EG25-92-000
Five Circles Solar, LLC | EG25-93-000
Aulander Holloman Solar, LLC | EG25-94-000
SloughHouse Solar, LLC | EG25-95-000

Take notice that during the month of March 2025, the status of the above-captioned entities as Exempt Wholesale Generators became effective by operation of the Commission's regulations. 18 CFR 366.7(a) (2024).

Dated: April 2, 2025.
Carlos D. Clay,
Deputy Secretary.

[FR Doc. 2025-05994 Filed 4-7-25; 8:45 am]

BILLING CODE 6717-01-P